DEPARTMENT OF ENERGY

Federal Energy Regulatory Commission

Supplemental Notice of Technical Conference

| Docket Nos.
Public Citizen, Inc. v. Midcontinent Independent System Operator, Inc | EL15-70-000
The People of the State of Illinois By Illinois Attorney General Lisa Madigan v. Midcontinent Independent System Operator, Inc | EL15-71-000
Southwestern Electric Cooperative, Inc. v. Midcontinent Independent System Operator, Inc., Dynegy, Inc., and Sellers of Capacity into Zone 4 of the 2015-2016 MISO Planning Resource Auction | EL15-72-000
Illinois Industrial Energy Consumers v. Midcontinent Independent System Operator, Inc | EL15-82-000

As announced in the notice issued on October 1, 2015, the Federal Energy Regulatory Commission will hold a technical conference on October 20, 2015, at the offices of the Federal Energy Regulatory Commission, 888 First Street NE., Washington, DC 20426, between 9:00 a.m. and 4:15 p.m. (EST). An updated agenda identifying panelists for this conference is attached.

The technical conference will be transcribed. Transcripts will be available for a fee from Ace-Federal Reports, Inc. (202-347-3700).

There will be a free webcast of the conference. The webcast will allow persons to listen to the technical conference, but not participate. Anyone with internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100. The webcast will be available on the Calendar of Events on the Commission's Web site www.ferc.gov for three months after the conference.

Advance registration is not required but is highly encouraged. If you have not already done so, those who plan to attend may register in advance at the following Web page: https://www.ferc.gov/whats-new/registration/10-20-15-form.asp. Attendees should allow time to pass through building security procedures before the 9:00 a.m. (EST) start time of the technical conference. In addition, information on this event will be posted on the Calendar of Events on the Commission's Web site, www.ferc.gov, prior to the event.

Discussions at the conference may address matters at issue in the following Commission proceeding(s) that are either pending or within their rehearing period: Midcontinent Independent System Operator, Inc., Docket No. ER11-4081-000, et al.

Commission conferences are accessible under section 508 of the Rehabilitation Act of 1973. For accessibility accommodations, please send an email to accessibility@ferc.gov or call toll free (866) 208-3372 (voice) or (202) 502-8659 (TTY), or send a FAX to (202) 208-2106 with the required accommodations.

Following the technical conference, the Commission will consider post-technical conference comments regarding the matters discussed at the conference submitted on or before November 4, 2015.

For more information about this technical conference, please contact Elizabeth Shen, 202-502-6545, elizabeth.shen@ferc.gov, regarding legal issues; or Angelo Mastrogiacomo, 202-502-8689, angelo.mastrogiacomo@ferc.gov, and Emma Nicholson, 202-502-8846, emma.nicholson@ferc.gov, regarding technical issues; or Sarah McKinley, 202-502-8368, sarah.mckinley@ferc.gov, regarding logistical issues.

Dated: October 14, 2015.
Kimberly D. Bose,
Secretary.

[FR Doc. 2015-26546 Filed 10-19-15; 8:45 am]

BILLING CODE 6717-01-P